DEPARTMENT OF HOUSING AND URBAN DEVELOPMENT

[Docket No. FR-7002-N-01]

60-Day Notice of Proposed Information Collection: Self-Help Homeownership Opportunity Program (SHOP): Correction

AGENCY: Office of Community Planning and Development, HUD.

ACTION: Notice; Correction.

SUMMARY: HUD is seeking approval from the Office of Management and Budget (OMB) for the information collection described below. In accordance with the Paperwork Reduction Act, HUD is requesting comment from all interested parties on the proposed collection of information. The purpose of this notice is to allow for 60 days of public comment. This notice corrects the due date on previous published notice on February 28, 2018.

DATES: Comments Due Date: May 7, 2018.

ADDRESSES: Interested persons are invited to submit comments regarding this proposal. Comments should refer to the proposal by name and/or OMB Control Number and should be sent to: Colette Pollard, Reports Management Officer, QDAM, Department of Housing and Urban Development, 451 Seventh Street SW, Room 4176, Washington, DC 20410-4500; telephone 202-402-3400 (this is not a toll-free number) or email at Colette.Pollard@hud.gov for a copy of the proposed forms or other available information. Person with hearing or speech impairments may access this number through TTY by calling the toll-free Federal Relay Service at 800-877-8339.

FOR FURTHER INFORMATION CONTACT: Thann Young, SHOP Program Manager, Office of Rural Housing and Economic Development, U.S. Department of Housing and Urban Development, 451 Seventh Street SW, Room 7240, Washington, DC 20410-4500; telephone 202-402-4464 (this is not a toll-free number) or by email at thann.young@hud.gov

SUPPLEMENTARY INFORMATION: This notice informs the public that HUD is seeking approval from OMB for the information collection described in Section A.

A. Overview of Information Collection

Title of Information Collection: Self-Help Homeownership Opportunity Program (SHOP).

OMB Approval Number: 2506-0157.

Type of Request: Extension of currently approved collection.

Form Number: HUD-424CB, HUD-2880, HUD-2993, HUD-2995, HUD-96011.

Description of the need for the information and proposed use: This is a proposed information collection for submission requirements under the SHOP Notice of Funding Availability (NOFA). HUD requires information in order to ensure the eligibility of SHOP applicants and the compliance of SHOP proposals, to rate and rank SHOP applications, and to select applicants for grant awards. Information is collected on an annual basis from each applicant that responds to the SHOP NOFA. The SHOP NOFA requires applicants to submit specific forms and narrative responses.

Respondents: National and regional non-profit self-help housing organizations (including consortia) that apply for funds in response to the SHOP NOFA.

Frequency of Submission: Annually in response to the issuance of a SHOP NOFA.

Estimation of the Total Number of Hours Needed To Prepare the Information Collection Including Number of Respondents, Hours per Response, Frequency of Response, and Total Hours of Response for All Respondents

The estimates of the average hours needed to prepare the information collection are based on information provided by previous applicants. Actual hours will vary depending on the proposed scope of the applicant's program, the applicant's geographic service area and the number of affiliate organizations. The information burden is generally greater for national organizations with numerous affiliates.

Paperwork requirement | Number of respondents | Annual response | Total responses | Burden per response | Total annual hours | Hourly rate | Burden cost per instrument
SF-424 | 10 | 1 | 10 | 1 | 10 | 25.00 | 250.00
HUD-424CB | 10 | 1 | 10 | 10 | 10 | 25.00 | 250.00
HUD-424 CBW | 10 | 1 | 10 | 30 | 300 | 25.00 | 7,500.00
SF-LLL | 10 | 1 | 10 | .5 | 5 | 25.00 | 125.00
HUD-2880 | 10 | 1 | 10 | .5 | 5 | 25.00 | 125.00
HUD-2993 | 10 | 1 | 10 | .5 | 5 | 25.00 | 125.00
HUD-2995 | 10 | 1 |  | .5 | 5 | 25.00 | 125.00
HUD-96011 | 10 | 1 | 10 | .5 | 5 | 25.00 | 125.00
Applicant Eligibility | 10 | 1 | 10 | 10 | 100 | 25.00 | 2,500.00
SHOP Program Design and Scope of Work | 10 | 1 | 10 | 30 | 300 | 25.00 | 7,500.00
Rating Factor 1 | 10 | 1 | 10 | 25 | 250 | 25.00 | 6,250.00
Rating Factor 2 | 10 | 1 | 10 | 25 | 250 | 25.00 | 6,250.00
Rating Factor 3 | 10 | 1 | 10 | 55 | 550 | 25.00 | 13,750.00
Rating Factor 4 | 10 | 1 | 10 | 30 | 300 | 25.00 | 7,500.00
Rating Factor 5 | 10 | 1 | 10 | 25 | 250 | 25.00 | 6,250.00
Total Annual Hour Burden | 140 |  | 140 |  | 2,345 | 25.00 | 58,625.00

B. Solicitation of Public Comments

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3506 of the Paperwork Reduction Act of 1995, 44 U.S.C. Chapter 35, as amended.

Dated: February 28, 2018.
Lori Michalski,
Acting General Deputy Assistant Secretary for Community Planning and Development.

[FR Doc. 2018-04530 Filed 3-5-18; 8:45 am]

BILLING CODE 4210-67-P